DEPARTMENT OF LABOR

Employment and Training Administration

[TA-W-71,767]

General Electric Lighting-Ravenna Lamp Plant, Lighting Division, Including On-Site Leased Workers from Devore Technologies, Ravenna, OH; Amended Certification Regarding Eligibility To Apply for Worker Adjustment Assistance

In accordance with Section 223 of the Trade Act of 1974, as amended (“Act”), 19 U.S.C. 2273, the Department of Labor issued a Certification of Eligibility to Apply for Worker Adjustment Assistance on September 24, 2009, applicable to workers of General Electric Lighting-Ravenna Lamp Plant, Lighting Division, including on-site leased workers from DeVore Technologies, Ravenna, Ohio. The notice was published in the Federal Register on November 17, 2009 (74 FR 59252).

At the request of the State Agency, the Department reviewed the certification for workers of the subject firm. The workers are engaged in activities related to the production of high intensity discharge lamps.

The review shows that on August 24, 2007, a certification of eligibility to apply for adjustment assistance was issued from all workers of General Electric, Ravenna Lamp Plant, Ravenna, Ohio, separated for employment on or after July 30, 2006 through August 24, 2009. The notice was published in the Federal Register on September 11, 2007 (72 FR 51844)

In order to avoid an overlap in worker group coverage, the Department is amending the July 10, 2008 impact date established for TA-W-71,767, to read August 25, 2009.

The amended notice applicable to TA-W-71,767 is hereby issued as follows:

All workers of General Electric Lighting-Ravenna Lamp Plant, Lighting Division, including on-site leased workers from DeVore Technologies, Ravenna, Ohio, who became totally or partially separated from employment on or after August 25, 2009, through September 24, 2011, and all workers in the group threatened with total or partial separation from employment on date of certification through two years from the date of certification, are eligible to apply for adjustment assistance under Chapter 2 of Title II of the Trade Act of 1974, as amended.

Signed at Washington, DC, this 26th day of February 2010.
Elliott S. Kushner,
Certifying Officer, Division of Trade Adjustment Assistance.

[FR Doc. 2010-5310 Filed 3-11-10; 8:45 am]

BILLING CODE 4510-FN-P